DEPARTMENT OF HEALTH AND HUMAN SERVICES

Centers for Medicare & Medicaid Services

[Document Identifier: CMS-10110 and CMS-10537]

Agency Information Collection Activities: Proposed Collection; Comment Request

AGENCY: Centers for Medicare & Medicaid Services, HHS.

ACTION: Notice; withdrawal.

SUMMARY: On Monday, January 30, 2023, the Centers for Medicare & Medicaid Services (CMS) published a notice document entitled, “Agency Information Collection Activities: Proposed Collection; Comment Request”. That notice invited public comments on two separate information collection requests, under Document Identifiers: CMS-10110 and CMS-10537. Through the publication of this document, we are withdrawing both of the aforementioned notices. Specifically, we are withdrawing the notice requesting public comment on the information collection requests titled, “Manufacturer Submission of Average Sales Price (ASP) Data for Medicare Part B Drugs and Biologicals” Form number: CMS-10110 (OMB control number: 0938-0921). We are also withdrawing the notice requesting public comment on the information collection requests titled, “CAHPS Hospice Survey” Form number: CMS-10537 (OMB control number: 0938-01257).

DATES: This withdrawal is applicable on February 2, 2023.

SUPPLEMENTARY INFORMATION: In FR document, 2023-01822, published on January 30, 2023 (87 FR 5886), we are withdrawing item 1 “Manufacturer Submission of Average Sales Price (ASP) Data for Medicare Part B Drugs and Biologicals” which begins on page 5886. We are also withdrawing item 2 “CAHPS Hospice Survey” which begin on page 5887. Both notices will be republished at a later date, thereby allowing the public to have a full 60-day comment period.

Dated: January 30, 2023.
William N. Parham, III,
Director, Paperwork Reduction Staff, Office of Strategic Operations and Regulatory Affairs.

[FR Doc. 2023-02208 Filed 2-2-23; 8:45 am]

BILLING CODE 4120-01-P